DEPARTMENT OF TRANSPORTATION

Federal Aviation Administration

[Summary Notice No. PE-2000-35]

RIN

Petitions for Exemption; Summary of Petitions Received; Dispositions of Petitions Issued

AGENCY: Federal Aviation Administration (FAA), DOT.

ACTION: Notice of Petitions for exemption received and of dispositions of prior petitions.

SUMMARY: Pursuant to FAA's rulemaking provisions governing the application, processing, and dispositions of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 28, 2000.

ADDRESSES: Send comments on any petition in triplicate to: Federal Aviation Administration, Office of the Chief Counsel, Attn: Rule Docket (AGC-200), Petition Docket No. —————, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC, on August 2, 2000.
Donald P. Byrne,
Assistant Chief Counsel for Regulations.

Dispositions of Petitions

Docket No.: 28419.

Petitioner: United Parcel Service.

Section of the FAR Affected: 14 CFR 121.433(c)(1)(iii), 121.440(c), 121.441(a)(1) and (b)(1), and appendix F to part 121.

Description of Relief Sought/Disposition: To permit UPS to combine recurrent flight and ground training and proficiency checks for UPS's pilots in command (PIC), seconds in command (SIC), and flight engineers (FE) in a single annual training and proficiency evaluation program (SVTP).

Grant, 04/06/00, Exemption No. 6434B

Docket No.: 29483.

Petitioner: Jackson Police Department.

Section of the FAR Affected: 14 CFR 61.195(g)(1) and 91.109(a).

Description of Relief Sought/Disposition: To permit Jackson PD pilots in training to use public aircraft to log the aeronautical experience required by § 61.39 to take the practical test for issuance of a pilot certificate and aircraft rating.

Denial, 02/28/00, Exemption No. 7133

Docket No.: 29867.

Petitioner: Jetstream Aviation.

Section of the FAR Affected: 14 CFR 135.143(c)(2).

Description of Relief Sought/Disposition: To permit Jetstream to operate its Cessna Model 310N (Registration No. N4165Q, Serial No. 310N-0065) and Piper PA-28 Cherokee 140 (Registration No. N657CA, Serial No. 28-22371) airplanes under part 135 without a TSO-C112 (Mode S) transponder installed on each airplane.

Grant, 03/01/00, Exemption No. 7134

Docket No.: 29836.

Petitioner: Southwest Airlines Co.

Section of the FAR Affected: 14 CFR 121.434(c)(1)(ii).

Description of Relief Sought/Disposition: To permit Southwest to substitute a qualified and authorized check airman in place of an FAA inspector to observe a qualifying PIC who is completing initial or upgrade training specified in § 121.424 during at least one flight leg that includes a takeoff and a landing.

Grant, 02/28/00, Exemption No. 7132

Docket No.: 29736.

Petitioner: Tulsa Air & Space Center Airshows, Inc.

Section of the FAR Affected: 14 CFR 91.315, 119.5(g), and 119.21(a).

Description of Relief Sought/Disposition: To permit Tulsa Air & Space to operate its former military North America B-25 airplane (B-25), which is certificated in the limited category, for the purpose of carrying passengers on local flights for compensation or hire.

Grant, 02/18/00, Exemption No. 7126

[FR Doc. 00-19933 Filed 8-13-00; 8:45 am]

BILLING CODE 4910-13-M